FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 20, 2021.

A. Federal Reserve Bank of Kansas City (Jeffrey Imgarten, Assistant Vice President) 1 Memorial Drive, Kansas City, Missouri 64198-0001:

1. Susan Johnson, Colorado Springs, Colorado; Charles Vasilius and Stephanie Vasilius, both of Denver, Colorado; Nicholas Vasilius, Kirkland, Washington; and Alexandra Pitnell, Pittsford, New York; to join the Dwan/Vasilius Family Group, a group acting in concert, to retain voting shares of Central Bancorp, Inc., Colorado Springs, Colorado, and thereby indirectly retain voting shares of Farmers & Stockmens Bank, Clayton, New Mexico.

Also, the Charles J. Vasilius Trust, the Janet M. Vasilius Trust, and Justin Leveille, individually, and as trustee to both trusts, and the Susan Dwan Johnson Trust, the Elizabeth Dwan McNamara Trust, the Patricia Dwan Smith Trust, the Clare Dwan Harting Trust, the Kathleen Dwan Trust, the Ann T. Dwan Trust, and Tim Coutts, individually, and as trustee to each of the 5 trusts, and all of Colorado Springs, Colorado to join the Dwan/Vasilius Family Group, a group acting in concert, to acquire additional voting shares of Central Bancorp, Inc., and thereby indirectly acquire additional voting shares of Farmers & Stockmens Bank.

Board of Governors of the Federal Reserve System, November 29, 2021.
Michele Taylor Fennell,
Deputy Associate Secretary of the Board.

[FR Doc. 2021-26226 Filed 12-2-21; 8:45 am]

BILLING CODE 6210-01-P